DEPARTMENT OF COMMERCE

National Oceanic and Atmospheric Administration

[I.D. 061900F]

New England Fishery Management Council; Public Meetings

AGENCY: National Marine Fisheries Service (NMFS), National Oceanic and Atmospheric Administration (NOAA), Commerce.

ACTION: Notice of public meetings.

SUMMARY: The New England Fishery Management Council (Council) is scheduling joint public meetings of its Groundfish Oversight Committee and Groundfish Advisory Panel, and separate public meetings of its Capacity, Scientific and Statistical and Herring Committees, to consider actions affecting New England fisheries in the exclusive economic zone (EEZ). Recommendations from these groups will be brought to the full Council for formal consideration and action, if appropriate.

DATES: The meetings will be held from July 6 to July 19, 2000. See SUPPLEMENTARY INFORMATION for specific agendas, dates and times.

ADDRESSES: See SUPPLEMENTARY INFORMATION for specific meeting locations.

Council address: New England Fishery Management Council, 50 Water Street, Newburyport, Massachusetts 01950.

FOR FURTHER INFORMATION CONTACT: Paul J. Howard, Executive Director, New England Fishery Management Council (978) 465-0492.

SUPPLEMENTARY INFORMATION:

Meeting Dates, Locations and Agendas

Thursday, July 6, 2000, 9:30 a.m.—Joint Groundfish Oversight Committee and Groundfish Advisory Panel

Location: Trade Winds Motor Inn, 2 Park View Drive, Rockland, Maine 04841; telephone (207) 596-6661.

The committee and advisors will conduct a joint meeting to continue development of management options for Amendment 13 to the Northeast Multispecies Fishery Management Plan (FMP). These groups will continue their discussion of alternatives within the framework of the status quo management measures currently in the FMP. They also may review information on the current four, year-round area closures and develop preliminary options for changes to those areas. The committee will receive the report of the June 27 Groundfish Advisory Panel meeting; review, and possibly act on, suggestions from the advisors, including identification of an additional approach to management that should be considered for Amendment 13. If time permits, the committee may continue development of area management and sector allocation alternatives.

Monday, July 10, 2000, 10:00 a.m.—Capacity Committee

Location: Holiday Inn, Mansfield, 31 Hampshire Street, Mansfield, MA 02048; telephone (508) 339-2200.

The Capacity Committee will review analyses of proposals to allow more flexible transfer of fishing permits among fisheries and effort allocations in the multispecies fishery. One proposal would allow multispecies permit holders to acquire additional days-at-sea (DAS) from other permit holders with different rates of reduction of DAS on the transfer of active and inactive DAS. Two other proposals would allow the transfer of fishing permits among different fisheries but not allow vessels in the monkfish, scallop and multispecies to acquire additional DAS. A fourth proposal would reduce unused DAS by a small percentage each year unless the DAS were put under a freeze until groundfish stocks were rebuilt. The committee will make recommendations on these proposals at the Groundfish Committee meeting on July 19, 2000 and at the New England Council meeting on July 25-27, 2000.

Tuesday, July 11, 2000, 10:00 a.m.—Scientific and Statistical Committee

Location: Comfort Inn Airport, 1940 Post Road, Warwick, RI 02886; telephone: (401) 732-0470.

The committee will review scientific information and analyses in the draft Stock Assessment and Fishery Evaluation (SAFE) Report for 1999-2000 prepared by the Herring Plan Development Team (PDT). The committee also will review and comment on the annual specifications recommendations of the PDT for the 2001 fishing year.

Wednesday, July 12, 2000, 9:30 a.m.—Atlantic Herring Oversight Committee

Location: Comfort Inn Airport, 1940 Post Road, Warwick, RI 02886; telephone: (401) 732-0470.

The committee will review the draft annual Herring SAFE Report prepared by the Herring PDT, including the comments of the Scientific and Statistical Committee meeting developed on July 11. The committee also will review the annual specifications recommendations of the PDT on optimum yield from the fishery (OY) and total allowable catch (TACs) for each management area for the 2001 fishing year, and develop recommendations to the Council.

Thursday, July 13, 2000, 9:30 a.m.—Joint Groundfish Oversight Committee and Groundfish Advisory Panel

Location: Comfort Inn Airport, 1940 Post Road, Warwick, RI 02886; telephone (401) 732-0470.

The committee and advisors will conduct a joint meeting to continue development of management options for Amendment 13 to the Northeast Multispecies FMP. If not completed at the July 6 meeting, they will continue to refine the alternatives developed within the context of the status quo measures. They will also develop area management and sector allocation alternatives.

Wednesday, July 19, 2000, 9:30 a.m.—Joint Groundfish Oversight Committee and Groundfish Advisory Panel

Location: Holiday Inn Express, Harborfront Center, 110 Middle Street, Fairhaven, MA 02719; telephone (508) 997-1281.

The committee and advisors will conduct a joint meeting to continue development of management options for Amendment 13 to the Northeast Multispecies FMP. They will receive a report from the Council's Capacity Committee that may suggest approaches for addressing excess capacity and latent effort issues in the groundfish fishery. They will review these proposals and determine which should be analyzed for inclusion in Amendment 13. These groups also may receive reports from the Overfishing Definition Panel. The committee and advisors will complete development of alternatives for Amendment 13 that will be presented for Council consideration. Subject to Council approval of the alternatives, these will be further analyzed and developed into a document for public hearings.

Although non-emergency issues not contained in this agenda may come before this Council for discussion, those issues may not be the subject of formal Council action during this meeting. Council action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids, or other special accommodations, should be directed to the Council (see ADDRESSES) at least five days prior to the meeting dates.

Dated: June 19, 2000.
Richard W. Surdi,
Acting Director, Office of Sustainable Fisheries, National Marine Fisheries Service.

[FR Doc. 00-15976 Filed 6-22-00; 8:45 am]

BILLING CODE 3510-22-F